DEPARTMENT OF THE INTERIOR

National Park Service

National Register of Historic Places; Notification of Pending Nominations and Related Actions

Nominations for the following properties being considered for listing or related actions in the National Register were received by the National Park Service before January 9, 2010. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by

Dated: February 11, 2010.
J. Paul Loether,
Chief, National Register of Historic Places/National, Historic Landmarks Program.

ALASKA

Lake and Peninsula Borough-Census Area Kasna Creek Mining District, Address Restricted, Port Alsworth, 10000017

ARKANSAS

Ashley County

Crossett Methodist Church, 500 Main St., Crossett, 10000018

GEORGIA

Meriwether County

Eleanor Roosevelt School, (Rosenwald Schools in Georgia, 1912-1937) Parham St. at Leverette Hill Rd., Warm Springs, 10000019

ILLINOIS

Clinton County

Twiss, James C., House, 298 N. Page St., Aviston, 10000020

IOWA

Dickinson County

Mini-Wakan State Park Historic District, (CCC Properties in Iowa State Parks MPS) 24490 100th St., Spirit Lake, 10000021

MISSOURI

Atchison County

Rankin Hall, 402 N. 13th St., Terkio, 10000022

NEW YORK

Broome County

Vestal Central School, 201 Main St., Vestal, 10000023

Chemung County

Brand, John, Jr., House, 351 Maple Ave., Elmira, 10000024

Gerity, William S., House, 415 William St., Elmira, 10000025

Erie County

Alling & Cory Buffalo Warehouse, 136 N. Division St., Buffalo, 10000026

Buffalo Trunk Manufacturing Company Building, 125 Cherry St., Buffalo, 10000027

Montgomery County

Chalmers Knitting Mills, 21-41 Bridge St., Amsterdam, 10000028

Oneida County

Stanley, Edward W., Recreation Center, 36 Kirkland Ave., Clinton, 10000029

Steuben County

Presbyterian Church of Atlanta, 2 Main St., Atlanta, 10000030

Warren County

Methodist Episcopal Church, 33 Harrisburg Rd., Stony Creek, 10000031

Westchester County

Bird Homestead, 600 Milton Rd., Rye, 10000032

[FR Doc. 2010-1600 Filed 1-26-10; 8:45 am]

BILLING CODE 4310-70-P